SECURITIES AND EXCHANGE COMMISSION

[File No. 500-1]

In the Matter of Solar Acquisition Corp., Order of Suspension of Trading

August 5, 2015.

Solar Acquisition Corp. (CIK No. 0001375495) is a Florida corporation located in Ann Arbor, Michigan with a class of securities registered with the Securities and Exchange Commission (“Commission”) pursuant to Section 12(g) of the Securities Exchange Act of 1934 (“Exchange Act”). Solar Acquisition Corp. is delinquent in its periodic filings with the Commission, having not filed any periodic reports since it filed a Form 10-K for the period ended December 31, 2012. On November 6, 2014, the Division of Corporation Finance sent Solar Acquisition Corp. a delinquency letter requesting compliance with its periodic filing obligations, but the letter was returned because of Solar Acquisition Corp.'s failure to maintain a valid address on file with the Commission. As of June 16, 2015, the company's stock (symbol “SLRX”) was quoted on OTC Link (previously, “Pink Sheets”) operated by OTC Markets Group, Inc., had eight market makers, and was eligible for the “piggyback” exception of Exchange Act Rule 15c2-11(f)(3).

It appears to the Commission that there is a lack of current and accurate information concerning the securities of Solar Acquisition Corp. because it has not filed any periodic reports since its Form 10-K for the period ended December 31, 2012. The Commission is of the opinion that the public interest and the protection of investors require a suspension of trading in the securities of Solar Acquisition Corp.

Therefore, it is ordered, pursuant to Section 12(k) of the Exchange Act, that trading in the securities of Solar Acquisition Corp. is suspended for the period from 9:30 a.m. EDT on August 5, 2015, through 11:59 p.m. EDT on August 18, 2015.

By the Commission.
Brent J. Fields,
Secretary.

[FR Doc. 2015-19572 Filed 8-5-15; 4:15 pm]

BILLING CODE 8011-01-P